DEPARTMENT OF LABOR

Employment and Training Administration

[TA-W-72,797]

Radisys Corporation, Boca Raton, FL; Notice of Termination of Investigation

Pursuant to Section 223 of the Trade Act of 1974, as amended, an investigation was initiated in response to a petition filed on November 9, 2009 by a company official on behalf of workers of RadiSys Corporation, Boca Raton, Florida.

The petitioning worker group is covered by an earlier petition (TA-W-72,784) filed on November 6, 2009 that is the subject of an ongoing investigation for which a determination has not yet been issued. Further investigation in this case would duplicate efforts and serve no purpose; therefore the investigation under this petition has been terminated.

Signed at Washington, DC, this 14th day of January 2010.
Elliott S. Kushner,
Certifying Officer, Division of Trade Adjustment Assistance.

[FR Doc. 2010-5359 Filed 3-11-10; 8:45 am]

BILLING CODE 4510-FN-P